DEPARTMENT OF THE INTERIOR

Bureau of Ocean Energy Management

[Docket No. BOEM-2025-0384]

Notice of Availability of the Proposed Notice of Sale for the Cook Inlet Outer Continental Shelf Oil and Gas One Big Beautiful Bill Act Lease Sale 1

AGENCY: Bureau of Ocean Energy Management, Interior.

ACTION: Notice of availability.

SUMMARY: The Bureau of Ocean Energy Management (BOEM) announces the availability of the proposed notice of sale (NOS) for the Cook Inlet Outer Continental Shelf (OCS) Oil and Gas One Big Beautiful Bill Act (OBBBA) Lease Sale 1 (Lease Sale BBC1). BOEM publishes this notice pursuant to its regulatory authority under 30 CFR part 556. Pursuant to section 19 of the OCS Lands Act, the Secretary of the Interior provides the Governors of affected States and the executives of any affected local governments with the opportunity to review and comment on the proposed NOS. The proposed NOS describes the proposed size, timing, and location of the sale. The proposed NOS also includes lease stipulations, terms and conditions, minimum bids, royalty rates, and rental rates, which are required by section 501012 of the OBBBA for this sale.

DATES: Comments received from the Governors and the executives of any affected local governments on the size, timing, and location of this sale must be submitted to BOEM no later than January 9, 2026. BOEM will publish the final NOS in the Federal Register at least 30 days prior to the date of bid opening. Bid opening is currently scheduled for March 4, 2026.

ADDRESSES: The proposed NOS for Lease Sale BBC1 and other information essential to potential bidders may be obtained from the Leasing Section, Alaska Region, Bureau of Ocean Energy Management, 3801 Centerpoint Drive, Suite 500, Anchorage, AK 99503; telephone: 907-334-5200. The proposed NOS and other essential information are available for downloading or viewing on BOEM's website at http://www.boem.gov/ak-bbc1/.

FOR FURTHER INFORMATION CONTACT: Joel Immaraj, Alaska Regional Supervisor, Office of Leasing and Plans, 907-334-5238, joel.immaraj@boem.gov or Ben Burnett, Division Manager, Leasing Policy and Management Division, Office of Strategic Resources, 703-787-1782, benjamin.burnett@boem.gov.

Authority: This sale will be held pursuant to the requirements of the OBBBA. This notice is published pursuant to 43 U.S.C. 1331 et seq. (Outer Continental Shelf Lands Act, as amended) and 30 CFR 556.304.

Matthew N. Giacona,
Acting Director, Bureau of Ocean Energy Management.

[FR Doc. 2025-19827 Filed 11-7-25; 8:45 am]

BILLING CODE 4340-98-P